DEPARTMENT OF ENERGY

Federal Energy Regulatory Commission

Combined Notice of Filings #1

Take notice that the Commission received the following electric rate filings:

Docket Numbers: ER10-2563-004; ER10-1894-007; ER10-1882-004; ER10-3036-004; ER10-3042-005.

Applicants: Wisconsin Electric Power Company, Wisconsin Public Service Corporation, Wisconsin River Power Company, WPS Power Development, LLC, Combined Locks Energy Center, LLC.

Description: Notice of Change in Status of the WEC MBR Entities.

Filed Date: 7/29/15.

Accession Number: 20150729-5179.

Comments Due: 5 p.m. ET 8/19/15.

Docket Numbers: ER15-2317-000.

Applicants: NorthWestern Corporation.

Description: Section 205(d) Rate Filing: SA 290 Fifth Revised—NITSA with Oldcastle Materials to be effective 8/1/2015.

Filed Date: 7/30/15.

Accession Number: 20150730-5211.

Comments Due: 5 p.m. ET 8/20/15.

Docket Numbers: ER15-2318-000.

Applicants: Great Bay Energy, LLC.

Description: Tariff Cancellation: notice of cancellation to be effective 7/31/2015.

Filed Date: 7/30/15.

Accession Number: 20150730-5214.

Comments Due: 5 p.m. ET 8/20/15.

Docket Numbers: ER15-2319-000.

Applicants: Great Bay Energy V, LLC.

Description: Tariff Cancellation: notice of cancellation to be effective 7/31/2015.

Filed Date: 7/30/15.

Accession Number: 20150730-5215.

Comments Due: 5 p.m. ET 8/20/15.

Docket Numbers: ER15-2320-000.

Applicants: Great Bay Energy VII, LLC.

Description: Tariff Cancellation: notice of cancellation to be effective 7/31/2015.

Filed Date: 7/30/15.

Accession Number: 20150730-5216.

Comments Due: 5 p.m. ET 8/20/15.

Docket Numbers: ER15-2321-000.

Applicants: Great Bay Energy I LLC.

Description: Tariff Cancellation: notice of cancellation to be effective 7/31/2015.

Filed Date: 7/30/15.

Accession Number: 20150730-5217.

Comments Due: 5 p.m. ET 8/20/15.

Docket Numbers: ER15-2322-000.

Applicants: Great Bay Energy VI, LLC.

Description: Tariff Cancellation: notice of cancellation to be effective 7/31/2015.

Filed Date: 7/30/15.

Accession Number: 20150730-5218.

Comments Due: 5 p.m. ET 8/20/15.

Docket Numbers: ER15-2323-000.

Applicants: Great Bay Energy IV, LLC.

Description: Tariff Cancellation: notice of cancellation to be effective 7/31/2015.

Filed Date: 7/30/15.

Accession Number: 20150730-5219.

Comments Due: 5 p.m. ET 8/20/15.

Docket Numbers: ER15-2324-000.

Applicants: Southwest Power Pool, Inc.

Description: Section 205(d) Rate Filing: Missouri River Energy Services Members Formula Rate to be effective 10/1/2015.

Filed Date: 7/31/15.

Accession Number: 20150731-5001.

Comments Due: 5 p.m. ET 8/21/15.

Docket Numbers: ER15-2325-000.

Applicants: Southern California Edison Company.

Description: Section 205(d) Rate Filing: GIA and Distrib Serv Agmt Energy Develop & Construct Corp Karen Wind Farm to be effective 8/1/2015.

Filed Date: 7/31/15.

Accession Number: 20150731-5003.

Comments Due: 5 p.m. ET 8/21/15.

Docket Numbers: ER15-2326-000.

Applicants: Southern California Edison Company.

Description: Section 205(d) Rate Filing: LGIA Blythe Mesa Solar, LLC to be effective 8/1/2015.

Filed Date: 7/31/15.

Accession Number: 20150731-5007.

Comments Due: 5 p.m. ET 8/21/15.

Docket Numbers: ER15-2327-000.

Applicants: Appalachian Power Company.

Description: Section 205(d) Rate Filing: OATT—Revise Attachment K, TCC and TNC Rate Update to be effective 12/31/9998.

Filed Date: 7/31/15.

Accession Number: 20150731-5044.

Comments Due: 5 p.m. ET 8/21/15.

Docket Numbers: ER15-2328-000.

Applicants: PJM Interconnection, L.L.C.

Description: Section 205(d) Rate Filing: Original Service Agreement No. 4227; NQ-131 (ISA) to be effective 7/2/2015.

Filed Date: 7/31/15.

Accession Number: 20150731-5045.

Comments Due: 5 p.m. ET 8/21/15.

Docket Numbers: ER15-2329-000.

Applicants: Public Service Company of New Mexico.

Description: Section 205(d) Rate Filing: Revised NITSA and NOA between PNM and the City of Gallup, New Mexico to be effective 7/1/2015.

Filed Date: 7/31/15.

Accession Number: 20150731-5061.

Comments Due: 5 p.m. ET 8/21/15.

Take notice that the Commission received the following land acquisition reports:

Docket Numbers: LA15-2-000.

Applicants: Blue Sky East, LLC, Blue Sky West, LLC, Canandaigua Power Partners, LLC, Canandaigua Power Partners II, LLC, Erie Wind, LLC, Evergreen Wind Power, LLC, Evergreen Wind Power II, LLC, Evergreen Wind Power III, LLC, First Wind Energy Marketing, LLC, Imperial Valley Solar 1, LLC, Longfellow Wind, LLC, Meadow Creek Project Company LLC, Milford Wind Corridor Phase I, LLC, Milford Wind Corridor Phase II, LLC, Niagara Wind Power, LLC, Regulus Solar, LLC, Rockland Wind Farm LLC, Stetson Holdings, LLC, Stetson Wind II, LLC, Vermont Wind, LLC, Canadian Hills Wind, LLC.

Description: Quarterly Land Acquisition Report of Blue Sky East, LLC, et al.

Filed Date: 7/30/15.

Accession Number: 20150730-5221.

Comments Due: 5 p.m. ET 8/20/15.

Docket Numbers: LA15-2-000.

Applicants: Bayonne Plant Holding, L.L.C., Brandon Shores LLC, Brunner Island, LLC, C.P. Crane LLC, Camden Plant Holding, L.L.C., Dartmouth Power Associates Limited Partnership, Elmwood Park Power, LLC, Fowler Ridge IV Wind Farm LLC, H.A. Wagner LLC, Hatchet Ridge Wind, LLC, Holtwood, LLC, Lost Creek Wind, LLC, Lower Mount Bethel Energy, LLC, Lyonsdale Biomass, LLC, Martins Creek, LLC, Montour, LLC, Newark Bay Cogeneration Partnership L.P., Ocotillo Express LLC, Pedricktown Cogeneration Company LP, Post Rock Wind Power Project, LLC, Raven Power Marketing LLC, ReEnergy Ashland LLC, ReEnergy Black River LLC, ReEnergy Fort Fairfield LLC, ReEnergy Livermore Falls LLC, ReEnergy Sterling CT Limited Partnership, ReEnergy Stratton LLC, Sapphire Power Marketing LLC, Spring Valley Wind LLC, Susquehanna Nuclear, LLC, Talen Energy Marketing, LLC, Talen Ironwood, LLC, Talen Montana, LLC, Talen New Jersey Biogas, LLC, Talen New Jersey Solar, LLC, Talen Renewable Energy, LLC, TrailStone Power, LLC, York Generation Company LLC.

Description: Quarterly Land Acquisition Report of Hatchet Ridge Wind, LLC, et al.

Filed Date: 7/30/15.

Accession Number: 20150730-5222.

Comments Due: 5 p.m. ET 8/20/15.

Docket Numbers: LA15-2-000.

Applicants: Arlington Valley Solar Energy II, LLC, Bluegrass Generation Company, L.L.C., Calhoun Power Company, LLC, Carville Energy LLC, Centinela Solar Energy, LLC, Cherokee County Cogeneration Partners, LLC, Columbia Energy LLC, Decatur Energy Center, LLC, DeSoto County Generating Company, LLC, Doswell Limited Partnership, Las Vegas Power Company, LLC, LS Power Marketing, LLC, LSP University Park, LLC, Mobile Energy LLC, Oneta Power, LLC, Renaissance Power, L.L.C., Riverside Generating Company, L.L.C., Santa Rosa Energy Center, LLC, Seneca Generation, LLC, University Park Energy, LLC, Wallingford Energy LLC, West Deptford Energy, LLC.

Description: Quarterly Land Acquisition Report of Arlington Valley Solar Energy II, LLC.

Filed Date: 7/30/15.

Accession Number: 20150730-5224.

Comments Due: 5 p.m. ET 8/20/15.

Docket Numbers: LA15-2-000.

Applicants: Goshen Phase II LLC.

Description: Quarterly Land Acquisition Report of Goshen Phase II LLC.

Filed Date: 7/30/15.

Accession Number: 20150730-5226.

Comments Due: 5 p.m. ET 8/20/15.

Docket Numbers: LA15-2-000.

Applicants: Solar Star California XIII, LLC.

Description: Quarterly Land Acquisition Report of Solar Star California XIII, LLC.

Filed Date: 7/30/15.

Accession Number: 20150730-5257.

Comments Due: 5 p.m. ET 8/20/15.

Docket Numbers: LA15-2-000.

Applicants: Battery Utility of Ohio, LLC, Border Winds Energy, LLC, Pleasant Valley Wind, LLC.

Description: Quarterly Land Acquisition Report of Battery Utility of Ohio, LLC, et al.

Filed Date: 7/30/15.

Accession Number: 20150730-5259.

Comments Due: 5 p.m. ET 8/20/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 31, 2015.
Nathaniel J. Davis, Sr.,
Deputy Secretary.

[FR Doc. 2015-19302 Filed 8-5-15; 8:45 am]

BILLING CODE 6717-01-P